OFFICE OF PERSONNEL MANAGEMENT

Federal Employees Dental and Vision Insurance Program: Application Process for Contract Awards

AGENCY: U.S. Office of Personnel Management.

ACTION: Notice of Application Process for Federal Employees Dental and Vision Insurance Program Contract Awards.

SUMMARY: The U. S. Office of Personnel Management (OPM) is changing its contract awards process from a full solicitation to an application process for the Federal Employees Dental and Vision Insurance Program (FEDVIP). This process is being changed to be in line with the process used for the Federal Employees Health Benefits Program. The application is on Federal Business Opportunities (FedBizOpps.gov).

FOR FURTHER INFORMATION CONTACT: Sylvia V. Pulley, 202-606-1938.

SUPPLEMENTARY INFORMATION: The FEDVIP law, sections 8953 and 8983 of title 5, United States Code, (enhanced dental and vision benefits, respectively) requires OPM to contract with a reasonable number of qualified companies for a policy or policies of benefits described in the law, without regard to section 5 of title 41, United States Code, or any other statute requiring competitive bidding. OPM shall ensure that each resulting contract is awarded on the basis of contractor qualifications, price, and reasonable competitions. And, each contract entered must be for a uniform term of 7 years and may not be renewed automatically.

U.S. Office of Personnel Management.
John Berry,
Director.

[FR Doc. 2013-01162 Filed 1-18-13; 8:45 am]

BILLING CODE 6325-63-P